COMMITTEE FOR PURCHASE FROM PEOPLE WHO ARE BLIND OR SEVERELY DISABLED

Procurement List; Proposed Additions and Deletions

AGENCY: Committee for Purchase From People Who Are Blind or Severely Disabled.

ACTION: Proposed Addition to and Deletions From Procurement List.

SUMMARY: The Committee is proposing to add a service to the Procurement List that will be furnished by nonprofit agency employing persons who are blind or have other severe disabilities and to delete products previously furnished by such agencies.

DATES: Comments Must Be Received on or Before: 7/28/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed additions, the entities of the Federal Government identified in this notice will be required to procure the service listed below from nonprofit agency employing persons who are blind or have other severe disabilities.

The following service is proposed for addition to Procurement List for production by the nonprofit agency listed:

Service

Service Type/Location: Contact Center, Centers for Medicare and Medicaid Services, 7500 Security Boulevard, Baltimore, MD.

NPA: InspiriTec, Inc., Philadelphia, PA.

Contracting Activity: DEPT OF HHS/CMS, Centers for Medicare and Medicaid Services, Baltimore, MD.

Deletions

The following products are proposed for deletion from the Procurement List:

Products

NSN: 8115-00-511-5750—Box, Set-Up, Mailing Dental.

NPA: Blind Industries & Services of Maryland, Baltimore, MD.

Contracting Activity: DLA TROOP SUPPORT, PHILADELPHIA, PA.

NSN: 7530-01-515-7900—Paper, Printer, Ink Jet, Photo Quality, Double Side, Matte, Letter, 99 Bright White.

NSN: 7530-01-515-7471—Paper, Printer, Ink Jet, Photo Quality, 24 lb., Letter, 94 Bright White.

NPA: Wiscraft, Inc., Milwaukee, WI.

Contracting Activity: GSA/FSS OFC SUP CTR—PAPER PRODUCTS, NEW YORK, NY.

Patricia Briscoe,
Deputy Director, Business Operations (Pricing and Information Management).

[FR Doc. 2014-15048 Filed 6-26-14; 8:45 am]

BILLING CODE 6353-01-P